DEPARTMENT OF JUSTICE

Foreign Claims Settlement Commission

Privacy Act of 1974; System of Records

AGENCY: Foreign Claims Settlement Commission of the United States, Department of Justice.

ACTION: Rescindment of a System of Records Notice.

SUMMARY: Pursuant to the Privacy Act of 1974 and Office of Management and Budget (OMB) Circular No. A-108, notice is hereby given that the Foreign Claims Settlement Commission of the United States (Commission), a component within the United States Department of Justice (DOJ or Department), proposes to rescind the Commission System of Records Notices for the Commission systems of records listed below. The Commission proposes to rescind these systems of records because it has completed its work associated with the records and has transferred custody of the records to the National Archives.

DATES: All of the records described below were transferred to the custody of the National Archives prior to January 1, 2018.

ADDRESSES: The public, OMB, and Congress are invited to submit any comments via email at info.fcsc@usdoj.gov or by mail to the Foreign Claims Settlement Commission, 441 G Street NW, Room 6330, Washington, DC 20579.

FOR FURTHER INFORMATION CONTACT: Jeremy LaFrancois, Chief Administrative Counsel, Foreign Claims Settlement Commission, U.S. Department of Justice, 441 G Street NW, Room 6330, Washington, DC 20579, or by telephone at (202) 616-6975.

SUPPLEMENTARY INFORMATION: The Privacy Act provides that an agency may only collect or maintain in its records information about individuals that is relevant and necessary to accomplish a purpose that is required by statute or executive order. If a system of records is comprised of records that no longer meet that standard, the Privacy Act may require that the agency stop maintain the system and expunge the records in accordance with the requirements in the SORN and the applicable records retention or disposition schedule approved by the National Archives and Records Administration. Each of the systems of records listed below was created by the Commission in the course of its adjudication of claims of U.S. citizens against foreign governments. The Commission has now concluded the programs associated with these systems of records and has transferred the records to the National Archives and Records Administration for permanent storage by that agency in accordance with approved disposition schedules.

In accordance with 5 U.S.C. 552a(r), the Department has provided a report to OMB and Congress on the modifications to these systems of records.

SYSTEM NAME AND NUMBER:

FCSC-9, Czechoslovakia, Claims Against (2nd Program)

FCSC-11, Federal Republic of Germany, Questionnaire Inquiries From

FCSC-12, Hungary, Claims Against (2nd Program)

FCSC-14, Micronesia, Claims Arising in

FCSC-16, Prisoners of War (Pueblo)

FCSC-21, German Democratic Republic, Claims Against

FCSC-23, Vietnam, Claims for Losses Against

FCSC-24, Ethiopia, Claims for Losses Against

HISTORY:

FCSC-9—64 FR 31296, 71 FR 66347, 71 FR 70426, 72 FR 6746, 72 FR 49731

FCSC-11—64 FR 31296, 71 FR 66347, 71 FR 70426, 72 FR 6746, 72 FR 49731

FCSC-12—64 FR 31296, 71 FR 66347, 71 FR 70426, 72 FR 6746, 72 FR 49731

FCSC-14—64 FR 31296, 71 FR 66347, 71 FR 70426, 72 FR 6746, 72 FR 49731

FCSC-16—64 FR 31296, 71 FR 66347, 71 FR 70426, 72 FR 6746, 72 FR 49731

FCSC-21—64 FR 31296, 71 FR 66347, 71 FR 70426, 72 FR 6746, 72 FR 49731

FCSC-23—64 FR 31296, 71 FR 66347, 71 FR 70426, 72 FR 6746, 72 FR 49731

FCSC-24—64 FR 31296, 71 FR 66347, 71 FR 70426, 72 FR 6746, 72 FR 49731

Dated: October 10, 2019.
Jeremy R. LaFrancois,
Chief Administrative Counsel.

[FR Doc. 2019-22498 Filed 10-15-19; 8:45 am]

BILLING CODE 4410-BA-P